Title 3—

The President

Memorandum of May 18, 2016

Delegation of Certain Functions and Authorities Under the North Korea Sanctions and Policy Enhancement Act of 2016

Memorandum for the Secretary of State[,] the Secretary of the Treasury[,] the Director of National Intelligence[, and] the Secretary of Commerce

By the authority vested in me as President by the Constitution and the laws of the United States of America, including section 301 of title 3, United States Code, I hereby order as follows:

I hereby delegate to the Secretary of State, in consultation with the Secretary of the Treasury, functions and authorities vested in the President by section 103(a) of the North Korea Sanctions and Policy Enhancement Act of 2016 (Public Law 114-122, 22 U.S.C. 9201 note) (the “Act”).

I hereby delegate to the Secretary of State the functions and authorities vested in the President by sections 208(b), 208(c), 401(a), 401(b), and 402. These functions and authorities shall be executed in consultation with the Secretary of the Treasury when affecting actions undertaken by the Department of the Treasury pursuant to authorities delegated herein or pursuant to authorities conferred by the Act.

I hereby delegate to the Secretary of State the functions and authorities vested in the President by section 301 of the Act and direct the Secretary of State to develop, in coordination with other executive departments and agencies, as appropriate, the strategy described in section 202(c) of the Act.

I hereby delegate to the Secretary of the Treasury, in consultation with the Secretary of State, the functions and authorities vested in the President by sections 104(a), 104(b), 104(d), 209(b), and 304(b) of the Act.

I hereby delegate to the Secretary of the Treasury the functions and authorities vested in the President by sections 102(a), 104(c), 104(e), and 208(d) of the Act.

I hereby delegate to the Director of National Intelligence, in consultation with the Secretary of State, the functions and authorities vested in the President by section 205(a) of the Act.

I hereby delegate the functions and authorities vested in the President by section 209(a) as follows:

• The Secretary of the Treasury, in consultation with the Secretary of State and the Director of National Intelligence, shall have the responsibility for submitting the report described in subsection 209(a)(1) and for providing the information described in subsections 209(a)(2)(A) and (B).

• The Director of National Intelligence, in consultation with the Secretary of the Treasury and the Secretary of State, shall have the responsibility for providing the description of significant activities described by subsection 209(a)(1) and the assessment described in subsection 209(a)(2)(C).

• The Secretary of State, in consultation with the Secretary of the Treasury and the Director of National Intelligence, shall have the responsibility for providing the strategy described in subsection 209(a)(2)(D).

I hereby delegate to the Secretary of State, the Secretary of the Treasury, the Secretary of Commerce, and the Director of National Intelligence the functions and authorities vested in the President by section 404(a) of the Act as may be necessary to carry out the provisions of the Act, including the foregoing delegations.

Any reference herein to provisions of any act related to the subject of this memorandum shall be deemed to include references to any hereafter-enacted provisions of law that are the same or substantially the same as such provisions.

The Secretary of State is authorized and directed to publish this memorandum in the Federal Register.

THE WHITE HOUSE,

Washington, May 18, 2016

[FR Doc. 2016-13851

Filed 6-8-16; 11:15 am]

Billing code 4710-10-P